DEPARTMENT OF HEALTH AND HUMAN SERVICES

Food and Drug Administration

[Docket No. FDA-2004-N-0451] (formerly Docket No. 2004N-0226)

Food and Drug Administration Modernization Act of 1997: Modifications to the List of Recognized Standards, Recognition List Number: 022

AGENCY: Food and Drug Administration, HHS.

ACTION: Notice.

SUMMARY: The Food and Drug Administration (FDA) is announcing a publication containing modifications the agency is making to the list of standards FDA recognizes for use in premarket reviews (FDA recognized consensus standards). This publication, entitled “Modifications to the List of Recognized Standards, Recognition List Number: 022” (Recognition List Number: 022), will assist manufacturers who elect to declare conformity with consensus standards to meet certain requirements for medical devices.

DATES: Submit written or electronic comments concerning this document at any time. See section VII of this document for the effective date of the recognition of standards announced in this document.

ADDRESSES: Submit written requests for single copies of “Modifications to the List of Recognized Standards, Recognition List Number: 022” to the Division of Small Manufacturers, International and Consumer Assistance, Center for Devices and Radiological Health, Food and Drug Administration, 10903 New Hampshire Ave, Bldg. 66, rm. 4613, Silver Spring, MD 20993-0002. Send two self-addressed adhesive labels to assist that office in processing your requests, or fax your request to 301-847-8149. Submit written comments concerning this document, or recommendations for additional standards for recognition, to the contact person (see FOR FURTHER INFORMATION CONTACT). Submit electronic comments by e-mail: standards@cdrh.fda.gov. This document may also be accessed on FDA's Internet site at http://www.accessdata.fda.gov/scripts/cdrh/cfdocs/cfTopic/cdrhnew.cfm. See section VI of this document for electronic access to the searchable database for the current list of FDA recognized consensus standards, including Recognition List Number: 022 modifications and other standards related information.

FOR FURTHER INFORMATION CONTACT: Carol L. Herman, Center for Devices and Radiological Health, Food and Drug Administration, 10903 New Hampshire Ave., Bldg. 66, rm. 3632, Silver Spring, MD 20993-0002, 301-796-6574.

SUPPLEMENTARY INFORMATION:

I. Background

Section 204 of the Food and Drug Administration Modernization Act of 1997 (FDAMA) (Public Law 105-115) amended section 514 of the Federal Food, Drug, and Cosmetic Act (the act) (21 U.S.C. 360d). Amended section 514 of the act allows FDA to recognize consensus standards developed by international and national organizations for use in satisfying portions of device premarket review submissions or other requirements.

In a notice published in the Federal Register of February 25, 1998 (63 FR 9561), FDA announced the availability of a guidance entitled “Recognition and Use of Consensus Standards.” The notice described how FDA would implement its standard recognition program and provided the initial list of recognized standards.

Modifications to the initial list of recognized standards, as published in the Federal Register, are identified in table 1 of this document.

Table 1.—Federal Register Citation
February 25, 1998 (63 FR 9561) | May 27, 2005 (70 FR 30756)
October 16, 1998 (63 FR 55617) | November 8, 2005 (70 FR 67713)
July 12, 1999 (64 FR 37546) | March 31, 2006 (71 FR 16313)
November 15, 2000 (65 FR 69022) | June 23, 2006 (71 FR 36121)
May 7, 2001 (66 FR 23032) | November 3, 2006 (71 FR 64718)
January 14, 2002 (67 FR 1774) | May 21, 2007 (72 FR 28500)
October 2, 2002 (67 FR 61893) | September 12, 2007 (72 FR 52142)
April 28, 2003 (68 FR 22391) | December 19, 2007 (72 FR 71924)
March 8, 2004 (69 FR 10712) | September 9, 2008 (73 FR 52358)
June 18, 2004 (69 FR 34176) | March, 18, 2009 (74 FR 11586)
October 4, 2004 (69 FR 59240) |

These notices describe the addition, withdrawal, and revision of certain standards recognized by FDA. The agency maintains “hypertext markup language (HTML)” and “portable document format (PDF)” versions of the list of “FDA Recognized Consensus Standards.” Both versions are publicly accessible at the agency's Internet site. See section VI of this document for electronic access information. Interested persons should review the supplementary information sheet for the standard to understand fully the extent to which FDA recognizes the standard.

II. Modifications to the List of Recognized Standards, Recognition List Number: 022

FDA is announcing the addition, withdrawal, correction, and revision of certain consensus standards the agency will recognize for use in satisfying premarket reviews and other requirements for devices. FDA will incorporate these modifications in the list of FDA Recognized Consensus Standards in the agency's searchable database. FDA will use the term “Recognition List Number: 022” to identify these current modifications.

In table 2 of this document, FDA describes the following modifications: (1) The withdrawal of standards and their replacement by others; (2) the correction of errors made by FDA in listing previously recognized standards; and (3) the changes to the supplementary information sheets of recognized standards that describe revisions to the applicability of the standards.

In section III of this document, FDA lists modifications the agency is making that involve the initial addition of standards not previously recognized by FDA.

Table 2.
Old Recognition No. | Replacement Recognition No. | Standard | Change
A. Anesthesia
1-37 | 1-80 | CGA C-9:2004 (Reaffirmed 2008) Standard Color Marking of Compressed Gas Containers for Medical Use | Withdrawn and replaced with newer version
1-68 | 1-81 | CGA V-5:2008 Diameter-Index Safety System Noninterchangeable Low Pressure Connections for Medical Gas Applications | Withdrawn and replaced with newer version
1-51 |  | ASTM F1100-90 (1997) Standard Specification for Ventilators Intended for Use in Critical Care | Withdrawn
1-59 |  | ASTM F1456-01 Standard Specification for Minimum Performance and Safety Requirements for Capnometers | Withdrawn
B. Biocompatibility
2-64 |  | ANSI/AAMI/ISO 10993-5:1999 Biological Evaluation of Medical Devices—Part 5: Tests for In Vitro Cytotoxicity | Contact person, Extent of recognition and Relevant guidance
2-82 |  | ASTM F2147-01 Standard Practice for Guinea Pig: Split Adjuvant and Closed Patch Testing for Contact Allergens | Contact person and Extent of recognition
2-83 | 2-136 | ASTM E1262-88 (Reapproved 2008) Standard Guide for Performance of Chinese Hamster Ovary Cell/Hypoxanthine Guanine Phosphoribosyl Transferase Gene Mutation Assay | Withdrawn and replaced with newer version
2-84 | 2-137 | ASTM E1263-97 (Reapproved 2008) Standard Guide for Conduct of Micronucleus Assays in Mammalian Bone Marrow Erythrocytes | Withdrawn and replaced with newer version
2-85 | 2-138 | ASTM E1280-97 (Reapproved 2008) Standard Guide for Performing the Mouse Lymphoma Assay for Mammalian Cell Mutagenicity | Withdrawn and replaced with newer version
2-87 |  | ISO 10993-10:2002 Biological Evaluation of Medical Devices—Part 10: Tests for Irritation and Delayed-type Hypersensitivity | Extent of recognition and Relevant guidance
2-90 | 2-139 | ASTM E1397-91 (Reapproved 2008) Standard Practice for In Vitro Rat Hepatocyte DNA Repair Assay | Withdrawn and replaced with newer version
2-91 | 2-140 | ASTM E1398-91 (Reapproved 2008) Standard Practice for In Vivo Rat Hepatocyte DNA Repair Assay | Withdrawn and replaced with newer version
2-93 |  | ASTM F763-04 Standard Practice for Short-Term Screening of Implant Materials | Extent of recognition and Contact person
2-94 |  | ASTM F981-04 Standard Practice for Assessment of Compatibility of Biomaterials for Surgical Implants with Respect to Effect of Materials on Muscle and Bone | Extent of recognition and Contact person
2-95 | 2-141 | ASTM F1984-99 (Reapproved 2008) Standard Practice for Testing for Whole Complement Activation in Serum by Solid Materials | Withdrawn and replaced with newer version
2-97 | 2-142 | ASTM F1983-99 (Reapproved 2008) Standard Practice for Assessment of Compatibility of Absorbable/Resorbable Biomaterials for Implant Applications | Withdrawn and replaced with newer version
2-98 |  | ANSI/AAMI/ISO 10993-1:2003 Biological Evaluation of Medical Devices—Part 1: Evaluation and Testing | Title, Extent of recognition, Relevant guidance and Contact person
2-99 | 2-143 | ASTM F1904-98 (Reapproved 2008) Standard Practice for Testing the Biological Responses to Particles in vivo | Withdrawn and replaced with newer version
2-100 |  | ASTM E1372-95 (Reapproved 2003) Standard Test Method for Conducting a 90-Day Oral Toxicity Study in Rats | Contact person
2-106 | 2-144 | ASTM F619-03 (Reapproved 2008) Standard Practice for Extraction of Medical Plastics | Withdrawn and replaced with newer version
2-108 |  | ASTM F1905-98(2003) Standard Practice for Selecting Tests for Determining the Propensity of Materials to Cause Immunotoxicity | Contact person and Extent of recognition
2-114 |  | ASTM F1877-05 Standard Practice for Characterization of Particles | Extent of recognition and Contact person
2-115 |  | ASTM F895-84 (Reapproved 2006) Standard Test Method for Agar Diffusion Cell Culture Screening for Cytotoxicity | Extent of recognition, Relevant guidance and Contact person
2-116 | 2-145 | ASTM F1439-03 (Reapproved 2008) Standard Guide for Performance of Lifetime Bioassay for the Tumorigenic Potential of Implant Materials | Withdrawn and replaced with newer version
2-118 |  | ANSI/AAMI/ISO 10993-11:2006 Biological Evaluation of Medical Devices—Part 11: Tests for Systemic Toxicity | Extent of recognition, Relevant guidance and Contact person
2-119 |  | ASTM F813-07 Standard Practice for Direct Contact Cell Culture Evaluation of Materials for Medical Devices | Contact person
2-121 | 2-146 | ASTM F2148-07€1 Standard Practice for Evaluation of Delayed Contact Hypersensitivity Using the Murine Local Lymph Node Assay (LLNA) | Withdrawn and replaced with newer version
2-122 |  | ASTM F719-81 (Reapproved 2007)€1 Standard Practice for Testing Biomaterials in Rabbits for Primary Skin Irritation | Contact person and Relevant guidance
2-124 |  | ASTM F750-87 (Reapproved 2007)€1 Standard Practice for Evaluating Material Extracts by Systemic Injection in the Mouse | Extent of recognition, Relevant guidance and Contact person
2-125 |  | ASTM F749-98 (Reapproved 2007)€1 Standard Practice for Evaluating Material Extracts by Intracutaneous Injection in the Rabbit | Extent of recognition, Relevant guidance and Contact person
2-126 |  | ASTM F748-06 Standard Practice for Selecting Generic Biological Test Methods for Materials and Devices | Extent of recognition, Relevant guidance and Contact person
2-128 | 2-147 | USP 32-NF26 Biological Tests <87> 2009 Biological Reactivity Test, In Vitro—Direct Contact Test | Withdrawn and replaced with newer version
2-129 | 2-148 | USP 32-NF26 Biological Tests <88> Biological Reactivity Test, In Vitro—Elution Test | Withdrawn and replaced with newer version
2-130 | 2-149 | USP 32-NF26 Biological Tests <88> Biological Reactivity Tests, In Vivo Procedure—Preparation of Sample | Withdrawn and replaced with newer version
2-131 | 2-150 | USP 32-NF26 Biological Tests <88> Biological Reactivity Test, In Vivo, Classification of Plastics—Intracutaneous Test | Withdrawn and replaced with newer version
2-132 | 2-151 | USP 32-NF26 Biological Tests <88> Biological Reactivity Tests, In Vivo, Classification of Plastics—Systemic Injection Test | Withdrawn and replaced with newer version
2-133 |  | ASTM F1408-97 (Reapproved 2008) Standard Practice for Subcutaneous Screening Test for Implant Materials | Contact person
2-134 |  | ASTM F2065-00 (2006) Standard Practice for Testing for Alternative Pathway Complement Activation in Serum by Solid Materials | Contact person
2-135 |  | AAMI/ANSI/ISO 10993-12:2007 Biological Evaluation of Medical Devices—Part 12: Sample Preparation and Reference Materials | Extent of recognition, Relevant guidance and Contact person
C. Dental/ENT
4-69 | 4-178 | ISO 6872:2008 Dentistry—Ceramic Materials | Withdrawn and replaced with newer version
4-73 | 4-179 | ISO 7405: 2008 Dentistry—Evaluation of Biocompatibility of Medical Devices Used in Dentistry | Withdrawn and replaced with newer version
4-175 |  | ANSI ASA S3.46-1997 (R 2007) Methods of Measurement of Real-Ear Performance Characteristics of Hearing Aids | Reaffirmation
D. General
5-12 | 5-47 | ISO 10012:2003 Measurement Management Systems—Requirements for Measurement Processes and Measuring Equipment | Withdrawn and replaced with newer version
5-15 | 5-48 | ANSI/ASQ Z1.9-2008 Sampling Procedures and Tables for Inspection by Variables for Percent Nonconforming | Withdrawn and replaced with newer version
5-27 |  | IEC 60601-1-1 Ed. 2.0 2000 Medical Electrical Equipment—Part 1-1: General Requirements for Safety—Collateral Standard: Safety requirements for Medical Electrical Systems | Title
5-36 |  | ISO/TR 16142:2006 Medical Devices—Guidance on the Selection of Standards in Support of Recognized Essential Principles of Safety and Performance of Medical Devices | Title
5-41 |  | IEC 60601-1-4 (2000) Consol. Ed. 1.1 Medical Electrical Equipment—Part 1-4: General Requirements for Safety—Collateral Standard: Programmable Electrical Medical Systems | Title
5-44 | 5-49 | IEC 60601-1-8, Ed. 1 Medical Electrical Equipment—Part 1-8: General Requirements for Safety—Collateral Standard: Alarm Systems—Requirements, Tests and Guidelines—General Requirements and Guidelines for Alarm Systems in Medical Equipment | Withdrawn and re-recognized previous version
E. General Hospital/General Plastic Surgery
6-63 | 6-216 | ISO 8536-7:2009 Infusion Equipment for Medical Use—Part 7: Caps Made of Aluminum-plastics Combinations for Infusion Bottles | Withdrawn and replaced with newer version
6-112 |  | ANSI/AAMI PB70:2003 Liquid Barrier Performance and Classification of Protective Apparel and Drapes Intended for Use in Health Care Facilities | Contact person
6-118 |  | ASTM F2196-02 Standard Specification for Circulating Liquid and Forced Air Patient Temperature Management Devices | CFR citation and product code
6-144 |  | ASTM D5712—05€1 Standard Test Method for Analysis of Aqueous Extractable Protein in Natural Rubber and Its Products Using the Modified Lowry Method | Title and Contact person
6-145 |  | ASTM D3578-05€1 Standard Specification for Rubber Examination Gloves | Title and Contact person
6-147 |  | ASTM D6978-05 Standard Practice for Assessment of Resistance of Medical Gloves to Permeation by Chemotherapy Drugs | Contact person and Relevant guidance
6-149 |  | ASTM D7160-05 Standard Practice for Determination of Expiration Dating for Medical Gloves | Contact person
6-150 |  | ASTM D7161-05 Standard Practice for Determination of Real Time Expiration Dating of Mature Medical Gloves Stored Under Typical Warehouse Conditions | Contact person
6-165 |  | ASTM D6977-04€1 Standard Specification for Polychloroprene Examination Gloves for Medical Application | Title and Contact person
6-167 |  | ASTM D6319-00a (Reapproved 2005)€1 Standard Specification for Nitrile Examination Gloves for Medical Application | Title and Contact person
6-168 |  | ASTM D3577-09€1 Standard Specification for Rubber Surgical Gloves | Withdrawn and replaced with newer version
6-175 |  | ASTM D5151-06 Standard Test Method for Detection of Holes in Medical Gloves | Contact person
6-178 |  | ASTM D6124-06 Standard Test Method for Residual Powder on Medical Gloves | Contact person
6-183 |  | ASTM D5250-06€1 Standard Specification for Poly(vinyl chloride) Gloves for Medical Application | Title and Contact person
6-186 | 6-217 | ASTM F1670-08 Standard Test Method for Resistance of Materials Used in Protective Clothing to Penetration by Synthetic Blood | Withdrawn and replaced with newer version
6-205 | 6-218 | USP 32:2009 Nonabsorbable Surgical Suture | Withdrawn and replaced with newer version
6-206 | 6-219 | USP 32<11>:2009 Sterile Sodium Chloride for Irrigation | Withdrawn and replaced with newer version
6-207 | 6-220 | USP 32:2009 Absorbable Surgical Suture | Withdrawn and replaced with newer version
6-208 | 6-221 | USP 32<881>:2009 Tensile Strength | Withdrawn and replaced with newer version
6-209 | 6-222 | USP 32<861>:2009 Sutures—Diameter | Withdrawn and replaced with newer version
6-210 | 6-223 | USP 32<871>:2009 Sutures Needle Attachment | Withdrawn and replaced with newer version
6-211 | 6-224 | USP 32<11>:2009 Sterile Water for Irrigation | Withdrawn and replaced with newer version
6-212 | 6-225 | USP 32<11>:2009 Heparin Lock Flush Solution | Withdrawn and replaced with newer version
6-213 | 6-226 | USP 32<11>:2009 Sodium Chloride Injection | Withdrawn and replaced with newer version
F. In Vitro Diagnostics
7-156 | 7-195 | CLSI M02-A10, Performance Standards for Antimicrobial Disk Susceptibility Tests | Withdrawn and replaced with newer version
7-158 | 7-196 | CLSI M07-A8, Methods for Dilution Antimicrobial Susceptibility Tests for Bacteria that Grow Aerobically | Withdrawn and replaced with newer version
7-160 | 7-197 | CLSI M35-A2, Abbreviated Identification of Bacteria and Yeast | Withdrawn and replaced with newer version
7-78 | 7-198 | CLSI M23-A3, Development of In Vitro Susceptibility Testing Criteria and Quality Control Parameters | Withdrawn and replaced with newer version
7-177 | 7-199 | CLSI M100-S19 Performance Standards for Antimicrobial Susceptibility Testing | Withdrawn and replaced with newer version
7-161 | 7-200 | CLSI M48-A, Laboratory Detection and Identification of Mycobacteria | Withdrawn and replaced with newer version
7-102 |  | NCCLS H1-A5, Tubes and Additives for Venous Blood Specimen Collection | Contact Person
7-101 |  | NCCLS H51-A, Assays of vonWillebrand Factor Antigen and Ristocetin Cofactor Activity | Contact Person
7-165 |  | CLSI H20-A2, Reference Leukocyte (WBC) Differential Count (Proportional) and Evaluation of Instrumental Methods | Contact Person
7-103 | 7-201 | CLSI H3-A6, Procedures for the Collection of Diagnostic Blood Specimens by Venipuncture | Withdrawn and replaced with newer version
7-81 | 7-202 | CLSI C28-A3 Defining, Establishing, and Verifying Reference Intervals in the Clinical Laboratory | Withdrawn and replaced with newer version
7-144 | 7-203 | CLSI H04-A6, Procedures and Devices for the Collection of Diagnostic Capillary Blood Specimens | Withdrawn and replaced with newer version
G. Materials
8-32 | 8-163 | ASTM F1586-08 Standard Specification for Wrought Nitrogen Strengthened 21 Chromium-10Nickel-3Manganese-2.5Molybdenum Stainless Steel Bar for Surgical Implants (UNS S31675) | Withdrawn and replaced with newer version
8-44 | 8-164 | ASTM F136-08€1 Standard Specification for Wrought Titanium-6 Aluminum-4 Vanadium ELI (Extra Low Interstitial) Alloy for Surgical Implant Applications (UNS R56401) | Withdrawn and replaced with newer version
8-49 | 8-165 | ASTM F1058-08 Standard Specification for Wrought 40Cobalt-20Chromium-16Iron-15Nickel-7Molybdenum Alloy Wire and Strip for Surgical Implant Applications (UNS R30003 and UNS R30008) | Withdrawn and replaced with newer version
8-50 | 8-166 | ASTM F1091-08 Standard Specification for Wrought Cobalt-20 Chromium-15 Tungsten-10 Nickel Alloy Surgical Fixation Wire (UNS R30605) | Withdrawn and replaced with newer version
8-52 | 8-167 | ASTM F1350-08 Standard Specification for Wrought 18 Chromium-14 Nickel-2.5 Molybdenum Stainless Steel Surgical Fixation Wire (UNS S31673) | Withdrawn and replaced with newer version
8-53 | 8-168 | ASTM F1472-08€1 Standard Specification for Wrought Titanium -6Aluminum -4Vanadium Alloy for Surgical Implant Applications (UNS R56400) | Withdrawn and replaced with newer version
8-76 | 8-169 | ASTM F138-08 Standard Specification for Wrought 18 Chromium-14 Nickel-2.5 Molybdenum Stainless Steel Bar and Wire for Surgical Implants (UNS S31673) | Withdrawn and replaced with newer version
8-79 | 8-170 | ASTM F961-08 Standard Specification for 35Cobalt-35 Nickel-20 Chromium-10 Molybdenum Alloy Forgings for Surgical Implants (UNS R30035) | Withdrawn and replaced with newer version
8-81 | 8-171 | ASTM F1609-08 Standard Specification for Calcium Phosphate Coatings for Implantable Materials | Withdrawn and replaced with newer version
8-86 | 8-172 | ASTM F1926/F1926M-08 Standard Test Method for Evaluation of the Environmental Stability of Calcium Phosphate Granules, Fabricated Forms, and Coatings | Withdrawn and replaced with newer version
8-94 | 8-173 | ASTM F601-03 (Reapproved 2008) Standard Practice for Fluorescent Penetrant Inspection of Metallic Surgical Implants | Withdrawn and replaced with newer version
8-95 | 8-174 | ASTM F629-02 (Reapproved 2007)€1 Standard Practice for Radiography of Cast Metallic Surgical Implants | Withdrawn and replaced with newer version
8-110 | 8-175 | ASTM F1377-08 Standard Specification for Cobalt-28 Chromium-6 Molybdenum Powder for Coating of Orthopedic Implants (UNS R30075) | Withdrawn and replaced with newer version
8-118 | 8-176 | ASTM F2503-08 Standard Practice for Marking Medical Devices and Other Items for Safety in the Magnetic Resonance Environment | Withdrawn and replaced with newer version
8-133 | 8-177 | ASTM F2129-08 Standard Test Method for Conducting Cyclic Potentiodynamic Polarization Measurements to Determine the Corrosion Susceptibility of Small Implant Devices | Withdrawn and replaced with newer version
8-143 | 8-178 | ASTM F648-07€1 Standard Specification for Ultra-High-Molecular-Weight Polyethylene Powder and Fabricated Form for Surgical Implants | Withdrawn and replaced with newer version
8-144 | 8-179 | ASTM F754-08 Standard Specification for Implantable Polytetrafluoroethylene (PTFE) Sheet, Tube, and Rod Shapes Fabricated from Granular Molding Powders | Withdrawn and replaced with newer version
8-146 | 8-180 | ASTM F2066-08 Standard Specification for Wrought Titanium-15 Molybdenum Alloy for Surgical Implant Applications (UNS R58150) | Withdrawn and replaced with newer version
8-148 | 8-181 | ASTM F899-09 Standard Specification for Wrought Stainless Steels for Surgical Instruments | Withdrawn and replaced with newer version
8-152 | 8-182 | ASTM F1537-08 Standard Specification for Wrought Cobalt-28-Chromium-6-Molybdenum Alloys for Surgical Implants (UNS R31537, UNS R31538, and UNS R31539) | Withdrawn and replaced with newer version
8-160 | 8-183 | ASTM F560-08 Standard Specification for Unalloyed Tantalum for Surgical Implant Applications (UNS R05200, UNS R05400) | Withdrawn and replaced with newer version
8-161 | 8-184 | ASTM F2516-07€2 Standard Test Method for Tension Testing of Nickel-Titanium Superelastic Materials | Withdrawn and replaced with newer version
8-162 | 8-185 | ASTM F451-08 Standard Specification for Acrylic Bone Cement | Withdrawn and replaced with newer version
H. OB-GYN/Gastroenterology
9-34 |  | ISO 4074:2002/Cor.1:2003(E):, Natural Latex Rubber Condoms—Requirements and Test Methods, Technical Corrigendum 1 | Relevant guidance
9-41 | 9-58 | ASTM D6324-08 Standard Test Methods for Male Condoms Made from Polyurethane | Withdrawn and replaced with newer version
9-43 |  | ISO 16038:2005 Rubber condoms—Guidance on the Use of ISO 4074 in the Quality Management of Natural Rubber Latex Condoms | Relevant guidance
9-56 |  | ASTM D3492-08 Standard Specification for Rubber Contraceptives (Male Condoms) | Relevant guidance
9-57 |  | ISO 4074:2002/Cor.2:2008(E) Natural Latex Rubber Condoms—Requirements and Test Methods, Technical Corrigendum 2 | Relevant guidance
I. Orthopedics
11-172 | 11-211 | ASTM F1798-97 (Reapproved 2008) Standard Guide for Evaluating the Static and Fatigue Properties of Interconnection Mechanisms and Subassemblies Used in Spinal Arthrodesis Implants | Withdrawn and replaced with newer version
11-178 | 11-212 | ASTM F1440-92 (Reapproved 2008) Standard Practice for Cyclic Fatigue Testing of Metallic Stemmed Hip Arthroplasty Femoral Components Without Torsion | Withdrawn and replaced with newer version
11-192 | 11-213 | ASTM F1223-08 Standard Test Method for Determination of Total Knee Replacement Constraint | Withdrawn and replaced with newer version
11-198 | 11-214 | ASTM F0382-99 (Reapproved 2008) Standard Specification and Test Method for Metallic Bone Plates | Withdrawn and replaced with newer version
11-204 | 11-215 | ASTM F897-02 (Reapproved 2007) Standard Test Method for Measuring Fretting Corrosion of Osteosynthesis Plates and Screws | Withdrawn and replaced with newer version
11-205 | 11-216 | ASTM F1264-03 (Reapproved 2007)€1 Standard Specification and Test Methods for Intramedullary Fixation Devices | Withdrawn and replaced with newer version
11-209 | 11-217 | ASTM F2083-08€1 Standard Specification for Total Knee Prosthesis | Withdrawn and replaced with newer version
J. Radiology
12-17 | 12-192 | NEMA MS 8-2008 Characterization of the Specific Absorption Rate for Magnetic Resonance Imaging Systems | Withdrawn and replaced with new version
12-48 | 12-193 | AIUM AOL 2008 Acoustic Output Labeling Standard for Diagnostic Ultrasound Equipment Revision 1- A Standard for How Manufacturers Should Specify Acoustic Output Data | Withdrawn and replaced with newer version
12-58 | 12-194 | ANSI/HPS N43.6-2007 Sealed Radioactive Sources—Classification | Withdrawn and replaced with newer version
12-69 | 12-195 | NEMA MS 6-2008 Determination of Signal-to-Noise Ratio and Image Uniformity for Single-Channel Non-Volume Coils in Diagnostic MR Imaging | Withdrawn and replaced with newer version
12-95 | 12-196 | NEMA MS 2-2008 Determination of Two-Dimensional Geometric Distortion in Diagnostic Magnetic Resonance Images | Withdrawn and replaced with newer version
12-100 |  | NEMA UD 3-2004 Standard for Real Time Display of Thermal and Mechanical Acoustic Output Indices on Diagnostic Ultrasound Equipment | Contact person
12-105 |  | NEMA UD 2-2004 Acoustic Output Measurement Standard for Diagnostic Ultrasound Equipment Version 3 | Contact person
12-139 |  | AIUM AOMS-2004 Acoustic Output Measurement Standard for Diagnostic Ultrasound Equipment | Title and Contact person
12-140 |  | AIUM RTD1-2004 Standard for Real-Time Display of Thermal and Mechanical Acoustic Output Indices on Diagnostic Ultrasound Equipment Revision 1 | Title and Contact person
12-146 |  | IEC 60601-2-17 (2004) Medical Electrical Equipment—Part 2-17: Particular Requirements for the Safety of Automatically-controlled Brachytherapy Afterloading Equipment | Title
12-147 |  | IEC 60601-2-5: (2000) Medical Electrical Equipment—Part 2-5: Particular Requirements for the Safety of Ultrasonic Physiotherapy Equipment Ed. 2.0 | Title
12-169 | 12-197 | IEC 60601-2-22 (1995) Medical Electrical Equipment—Part 2-22: Particular Requirements for Basic Safety and Essential Performance of Surgical, Cosmetic, Therapeutic and Diagnostic Laser Equipment—Edition 2.0 | Withdrawn and re-recognized previous version
12-178 |  | IEC 60601-2-45 Ed. 2.0, (2001), Medical electrical equipment—Part 2-45: Particular requirements for the safety of mammographic X-ray equipment and mammographic stereotactic devices | Title
12-182 | 12-198 | IEC 60601-2-37 (2004), (2005) Amendment 2, Medical Electrical Equipment—Part 2-37: Particular Requirements for the Safety of Ultrasonic Medical Diagnostic and Monitoring Equipment | Withdrawn and re-recognized previous version
12-185 | 12-199 | IEC 60601-1-3: 1994 Medical Electrical Equipment—Part 1: General Requirements for Safety 3. Collateral Standard: General Requirements for Radiation Protection in Diagnostic X-ray Equipment—First Edition | Withdrawn and re-recognize previous version
12-186 | 12-200 | IEC 60601-2-29 (1999) Medical Electrical Equipment Part 2-29: Particular Requirements for the Safety of Radiotherapy Simulators—Second Edition | Withdrawn and re-recognized previous version
K. Software/Informatics
13-16 | 13-29 | CLSI LIS01-A2 Specification for Low-Level Protocol to Transfer Messages Between Clinical Laboratory Instruments and Computer Systems | Withdrawn and replaced with newer version
L. Sterility
14-55 |  | ANSI/AAMI/ISO 14160:1998/(R) 2008 Sterilization of Single-use Medical Devices Incorporating Materials of Animal Origin—Validation and Routine Control of Sterilization by Liquid Chemical Sterilants | Reaffirmation
14-88 |  | ANSI/AAMI/ ISO 14937:2000 Sterilization of Health Care Products—General Requirements for Characterization of a Sterilizing Agent and the Development, Validation, and Routine Control of a Sterilization Process for Medical Devices. | Contact person
14-116 |  | ANSI/AAMI ST72:2002 Bacterial Endotoxins—Test Methodologies, Routine Monitoring, and Alternatives to Batch Testing | Relevant guidance and Extent of recognition
14-135 |  | ANSI/AAMI ST63:2002 Sterilization of Health Care Products—Requirements for the Development, Validation, and Routine Control of an Industrial Sterilization Process for Medical Devices—Dry Heat | Relevant Guidance
14-164 |  | ANSI/AAMI ST81:2004 Sterilization of Medical Devices—Information to be Provided by the Manufacturer for the Processing of Resterilizable Medical Devices | Contact Person
14-195 |  | ANSI/AAMI/ISO 11140-1:2005 Sterilization of Health Care Products—Chemical Indicators—Part 1: General Requirements | Relevant Guidance, Extent of Recognition and Contact person
14-220 | 14-263 | ANSI/AAMI ST79:2006/A1:2008 Comprehensive Guide to Steam Sterilization and Sterility Assurance in Health Care Facilities | Withdrawn and replaced with newer version
14-223 |  | ANSI/AAMI/ISO 11138-1:2006 Sterilization of Health Care Products—Biological Indicators—Part 1: General Requirements | Relevant Guidance
14-224 |  | ANSI/AAMI/ISO 11137-1:2006 Sterilization of Health Care Products—Radiation—Part 1: Requirements for Development, Validation, and Routine Control of a Sterilization Process for Medical Devices | Relevant Guidance
14-225 |  | ANSI/AAMI/ISO 11137-2:2006 Sterilization of Health Care Products—Radiation—Part 2: Establishing the Sterilization Dose | Relevant Guidance
14-226 |  | ANSI/AAMI/ISO 11137-3:2006 Sterilization of Health Care Products—Radiation—Part 3: Guidance on Dosimetric Aspects | Relevant Guidance
14-228 |  | ANSI/AAMI/ISO 11135-1:2007 Sterilization of Health Care Products—Ethylene oxide—Part 1: Requirements for Development, Validation, and Routine Control of a Sterilization Process for Medical Devices | Relevant Guidance
14-261 |  | ANSI/AAMI/ISO 17665-1:2006 Sterilization of Health Care Products—Moist Heat—Part 1: Requirements for the Development, Validation, and Routine Control of a Sterilization Process for Medical Devices | Relevant Guidance
14-119 |  | ANSI/AAMI ST55:2003/(R)2008 Table-top Steam Sterilizers | Reaffirmation
14-71 | 14-264 | ANSI/AAMI ST8:2008 Hospital Steam Sterilizers | Withdrawn and replaced with newer version
14-249 | 14-265 | USP 32:2009 <61> Microbiological Examination of Nonsterile Products: Microbial Enumeration Tests | Withdrawn and replaced with newer version
14-250 | 14-266 | USP 32:2009 <71> Sterility Tests | Withdrawn and replaced with newer version
14-251 | 14-267 | USP 32:2009 <85> Bacterial Endotoxins Test | Withdrawn and replaced with newer version
14-252 | 14-268 | USP 32:2009 <151> Pyrogen Test (USP Rabbit Test) | Withdrawn and replaced with newer version
14-253 | 14-269 | USP 32:2009 <161> Transfusion and Infusion Assemblies and Similar Medical Devices | Withdrawn and replaced with newer version
14-254 | 14-270 | USP 32:2009 Biological Indicator for Steam Sterilization—Self Contained | Withdrawn and replaced with newer version
14-246 | 14-271 | USP 32:2009 Biological Indicator for Dry-Heat Sterilization, Paper Carrier | Withdrawn and replaced with newer version
14-247 | 14-272 | USP 32:2009 Biological Indicator for Ethylene Oxide Sterilization, Paper Carrier | Withdrawn and replaced with newer version
14-248 | 14-273 | USP 32:2009 Biological Indicator for Steam Sterilization, Paper Carrier | Withdrawn and replaced with newer version
14-238 |  | ANSI/AAMI/ISO 11140-5:2007 Sterilization of Health Care Products—Chemical Indicators—Part 5: Class 2 Indicators for Bowie and Dick-type Air Removal Tests | Contact person and Relevant guidance
14-171 | 14-274 | ANSI/AAMI/ISO 15882:2008 Chemical Indicators—Guidance on the Selection, Use, and Interpretation of Results | Withdrawn and replaced with newer version
14-49 | 14-275 | ANSI/AAMI ST41:2008 Ethylene oxide Sterilization in Health Care Facilities: Safety and Effectiveness | Withdrawn and replaced with newer version
14-136 |  | ANSI/AAMI ST67:2003/(R) 2008 Sterilization of Health Care Products—Requirements for Products Labeled “STERILE” | Reaffirmation and Relevant guidance

III. Listing of New Entries

In table 3 of this document, FDA provides the listing of new entries and consensus standards added as modifications to the list of recognized standards under Recognition List Number: 022.

Table 3.
Recognition No. | Title of Standard | Reference No. & Date
A. Biocompatibility
2-152 | Biological Evaluation of Medical Devices—Part 10: Tests for Irritation and Delayed-type Hypersensitivity Amendment 1 | ISO 10993 10:2002/Amd.1:2006(E)
B. General
5-46 | Sampling Procedures for Inspection by Attributes—Part 1: Sampling Schemes Indexed by Acceptance Quality Limit (AQL) for Lot-by-lot Inspection | ISO 2859-1:1999/Cor 1:2001
5-50 | Medical Devices—Application of Usability Engineering to Medical Devices | IEC 62366:2007
C. In Vitro Diagnostics
7-204 | Reference Method for Broth Dilution Antifungal Susceptibility Testing of Yeasts | CLSI M27-A3
D. Materials
8-186 | Standard Guide for Assessment of the Ultra High Molecular Weight Polyethylene (UHMWPE) Used in Orthopedic and Spinal Devices | ASTM F 2759—09
8-187 | Implants for Surgery—Hydroxyapatite—Part 1: Ceramic Hydroxyapatite | ISO 13779-1:2008(E)
8-188 | Implants for Surgery—Hydroxyapatite—Part 2: Coatings of Hydroxyapatite | ISO 13779-2:2008(E)
E. Neurology
17-8 | Implants for Surgery—Active Implantable Medical Devices Part 3: Implantable Neurostimulators (Neurology) | ISO 14708-3 2008-11-15
F. OB-GYN/Gastroenterology
9-59 | Hemodialysis Systems | ANSI/AAMI RD5:2003/(R) 2008
G. Orthopedics
11-218 | Implants for surgery—Wear of Total Knee-joint Prostheses—Part 3: Loading and Displacement Parameters for Wear-testing Machines with Displacement Control and Corresponding Environmental Conditions for Test | ISO 14243-3:2004 Technical Corrigendum 1
H. Sterility
14-276 | Sterilization of Health Care Products—Moist Heat—Part 2: Guidance on the Application of ISO 17665-1 | ISO/TS 17665-2:2009
14-277 | Microbiological Examination of Nonsterile Products: Tests for Specified Microorganisms | USP32:2009 <62>
14-278 | Biological Evaluation of Medical Devices—Part 7: Ethylene Oxide Sterilization Residuals | ANSI/AAMI/ISO 10993-7:2008
I. Tissue Engineering
15-14 | Standard Guide for Interpreting Images of Polymeric Tissue Scaffolds | ASTM F2603-06
15-15 | Standard Test Method for Determining the Chemical Composition and Sequence in Alginate by Proton Nuclear Magnetic Resonance (1H NMR) Spectroscopy | ASTM F2259-03 (Reapproved 2008)

IV. List of Recognized Standards

FDA maintains the agency's current list of FDA recognized consensus standards in a searchable database that may be accessed directly at FDA's Internet site at http://www.accessdata.fda.gov/scripts/cdrh/cfdocs/cfStandards/search.cfm. FDA will incorporate the modifications and minor revisions described in this document into the database and, upon publication in the Federal Register, this recognition of consensus standards will be effective. FDA will announce additional modifications and minor revisions to the list of recognized consensus standards, as needed, in the Federal Register once a year, or more often, if necessary.

V. Recommendation of Standards for Recognition by FDA

Any person may recommend consensus standards as candidates for recognition under the new provision of section 514 of the act by submitting such recommendations, with reasons for the recommendation, to the contact person (See FOR FURTHER INFORMATION CONTACT). To be properly considered such recommendations should contain, at a minimum, the following information: (1) Title of the standard; (2) any reference number and date; (3) name and address of the national or international standards development organization; (4) a proposed list of devices for which a declaration of conformity to this standard should routinely apply; and (5) a brief identification of the testing or performance or other characteristics of the device(s) that would be addressed by a declaration of conformity.

VI. Electronic Access

You may obtain a copy of “Guidance on the Recognition and Use of Consensus Standards” by using the Internet. CDRH maintains a site on the Internet for easy access to information including text, graphics, and files that you may download to a personal computer with access to the Internet. Updated on a regular basis, the CDRH home page includes the guidance as well as the current list of recognized standards and other standards related documents. After publication in the Federal Register, this document announcing “Modification to the List of Recognized Standards, Recognition List Number: 022” will be available on the CDRH home page. You may access the CDRH home page at http://www.fda.gov/cdrh.

You may access “Guidance on the Recognition and Use of Consensus Standards,” and the searchable database for “FDA Recognized Consensus Standards” through the hyperlink at http://www.fda.gov/cdrh/stdsprog.html.

This Federal Register document on modifications in FDA's recognition of consensus standards is available at http://www.fda.gov/cdrh/fedregin.html.

VII. Submission of Comments and Effective Date

Interested persons may submit to the contact person (see FOR FURTHER INFORMATION CONTACT) written or electronic comments regarding this document. Two copies of any mailed comments are to be submitted, except that individuals may submit one paper copy. Comments are to be identified with the docket number found in brackets in the heading of this document. FDA will consider any comments received in determining whether to amend the current listing of modifications to the list of recognized standards, Recognition List Number: 022. These modifications to the list or recognized standards are effective upon publication of this document in the Federal Register.

Dated: August 26, 2009.
Catherine M. Cook,
Associate Director for Regulation and Policy.

[FR Doc. E9-21609 Filed 9-4-09; 8:45 am]

BILLING CODE 4160-01-S